NUCLEAR REGULATORY COMMISSION

[Docket No. 50-331]

FPL Energy Duane Arnold, LLC; Notice of Receipt and Availability of Application for Renewal of Duane Arnold Energy Center Facility Operating License No. DPR-49 for an Additional 20-Year Period

The U.S. Nuclear Regulatory Commission (NRC or Commission) has received an application, dated September 30, 2008, FPL Energy Duane Arnold, LLC, filed pursuant to Section 104b of the Atomic Energy Act of 1954, as amended, and Title 10 of the Code of Federal Regulations Part 54 (10 CFR Part 54), to renew the operating license for the Duane Arnold Energy Center (DAEC). Renewal of the license would authorize the applicant to operate the facility for an additional 20-year period beyond the period specified in the current operating license. The current operating license for DAEC expires on February 21, 2014. DAEC is a boiling-water reactor designed by General Electric that is located in Palo, Iowa. The acceptability of the tendered application for docketing, and other matters including an opportunity to request a hearing, will be the subject of subsequent Federal Register notices.

Copies of the application are available to the public at the Commission's Public Document Room (PDR), located at One White Flint North, 11555 Rockville Pike, Rockville, Maryland 20852 or through the Internet from the NRC's Agencywide Documents Access and Management System (ADAMS) Public Electronic Reading Room under Accession Number ML082980481. The ADAMS Public Electronic Reading Room is accessible from the NRC Web site at http://www.nrc.gov/reading-rm/adams.html. In addition, the application is available at http://www.nrc.gov/reactors/operating/licensing/renewal/applications.html. Persons who do not have access to the Internet or who encounter problems in accessing the documents located in ADAMS should contact the NRC's PDR Reference staff at 1-800-397-4209, extension 4737, or by e-mail to pdr@nrc.gov.

Dated at Rockville, Maryland, this 7th day of November 2008.
For the Nuclear Regulatory Commission.
Brian E. Holian,
Director, Division of License Renewal, Office of Nuclear Reactor Regulation.

[FR Doc. E8-27182 Filed 11-14-08; 8:45 am]

BILLING CODE 7590-01-P